DEPARTMENT OF COMMERCE

International Trade Administration

[C-570-054]

Certain Aluminum Foil From the People's Republic of China: Final Results of Countervailing Duty Administrative; 2022

AGENCY: Enforcement and Compliance, International Trade Administration, Department of Commerce.

SUMMARY: The U.S. Department of Commerce (Commerce) determines that countervailable subsidies were provided to certain exporters/producers of certain aluminum foil (aluminum foil) from the People's Republic of China (China) during the period of review (POR) January 1, 2022, through December 31, 2022.

DATES: Applicable November 12, 2024.

FOR FURTHER INFORMATION CONTACT: Natasia Harrison or Harrison Tanchuck, AD/CVD Operations, Office VI, Enforcement and Compliance, International Trade Administration, U.S. Department of Commerce, 1401 Constitution Avenue NW, Washington, DC 20230; telephone: (202) 482-1240 or (202) 482-7421, respectively.

SUPPLEMENTARY INFORMATION:

Background

On May 2, 2024, Commerce published the Preliminary Results of this administrative review in the Federal Register and invited comments from interested parties.¹ On July 22, 2024, Commerce tolled certain deadlines in this administrative proceeding by seven days.² On July 26, 2024, Commerce extended the deadline for issuing these final results to November 5, 2024.³ For a complete description of the events that occurred since the Preliminary Results, see the Issues and Decision Memorandum.⁴

¹ See Certain Aluminum Foil from the People's Republic of China: Preliminary Results of Countervailing Duty Administrative Review and Rescission of Review, in Part; 2022, 89 FR 35790 (May 2, 2024) (Preliminary Results), and accompanying Preliminary Decision Memorandum.

² See Memorandum, “Tolling of Deadlines for Antidumping and Countervailing Duty Proceedings,” dated July 22, 2024.

³ Commerce extended the time period for the final results to 180 days after the publication date of the Preliminary Results (i.e., October 29, 2024). However, because Commerce tolled certain deadlines in this administrative review by seven days, the deadline is now November 5, 2024. See Memorandum, “Extension of Deadline for Final Results of Countervailing Duty Administrative Review, 2022,” dated July 26, 2024.

⁴ See Memorandum, “Issues and Decision Memorandum for the Final Results of the Countervailing Duty Administrative Review of Certain Aluminum Foil from the People's Republic of China; 2022,” dated concurrently with, and hereby adopted by, this notice (Issues and Decision Memorandum).

Scope of the Order ⁵

⁵ See Certain Aluminum Foil from the People's Republic of China: Amended Final Affirmative Countervailing Duty Determination and Countervailing Duty Order, 83 FR 17360 (April 19, 2018); see also Certain Aluminum Foil from the People's Republic of China: Notice of Court Decision Not in Harmony With the Amended Final Determination in the Countervailing Duty Investigation, and Notice of Amended Final Determination and Amended Countervailing Duty Order, 85 FR 47730 (August 6, 2020) (collectively, Order).

The product covered by the scope of the Order is aluminum foil from China. A full description of the scope of the Order is contained in the Issues and Decision Memorandum.

Analysis of Comments Received

All issues raised by the interested parties in their case and rebuttal briefs are addressed in the Issues and Decision Memorandum. A list of topics discussed in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments from interested parties and the evidence on the record, we revised the calculation of the net countervailable subsidy rates for Hangzhou Five Star Aluminium Co., Ltd. (Five Star) and Jiangsu Zhongji Lamination Materials Co., (HK) Limited (Zhongji HK). In addition, we have also revised the rate applicable to companies not selected for individual review. For a discussion of these changes, see the Issues and Decision Memorandum.

Methodology

Commerce conducted this administrative review in accordance with section 751(a)(1)(A) of the Tariff Act of 1930, as amended (the Act). For each of the subsidy programs found to be countervailable, we find that there is a subsidy, i.e., a government-provided financial contribution that gives rise to a benefit to the recipient, and that the subsidy is specific.⁶ For a complete description of the methodology underlying all of Commerce's conclusions, including our reliance, in part, on facts otherwise available, including adverse facts available, pursuant to sections 776(a) and (b) of the Act, see the Issues and Decision Memorandum.

⁶ See sections 771(5)(B) and (D) of the Act regarding financial contribution; section 771(5)(E) of the Act regarding benefit; and section 771(5A) of the Act regarding specificity.

Companies Not Selected for Individual Review

The statute and Commerce's regulations do not directly address the establishment of rates to be applied to companies not selected for individual examination where Commerce limits its examination in an administrative review pursuant to section 777A(e)(2) of the Act. However, Commerce normally determines the rates for non-selected companies in reviews in a manner that is consistent with section 705(c)(5) of the Act, which provides the basis for calculating the all-others rate in an investigation. Section 705(c)(5)(A)(i) of the Act instructs Commerce, as a general rule, to calculate an all-others rate equal to the weighted average of the countervailable subsidy rates established for exporters and/or producers individually examined, excluding any rates that are zero, de minimis, or based entirely on facts available.

There are 18 companies for which a review was requested and not rescinded, and which were not selected as mandatory respondents or found to be cross-owned with a mandatory respondent. In this review, the preliminary rates calculated for Five Star and Zhongji HK are above de minimis and not based entirely on facts available. Therefore, we are applying to the non-selected companies the simple average of the net subsidy rates calculated for Five Star and Zhongji HK.⁷

⁷ With two respondents under examination, Commerce normally calculates: (A) a weighted-average of the estimated subsidy rates calculated for the examined respondents; (B) a simple average of the estimated subsidy rates calculated for the examined respondents; and (C) a weighted-average of the estimated subsidy rates calculated for the examined respondents using each company's publicly-ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53663 (September 1, 2010).

Final Results of Review

We determine the following net countervailable subsidy rates exist for the period January 1, 2022, through December 31, 2022:

⁸ Commerce finds the following companies to be to be cross-owned with Five Star: Jiangsu Dingsheng New Materials Joint-Stock Co., Ltd. (Jiangsu Dingsheng), Dingsheng Aluminium Industries (Hong Kong) Trading Co., Limited or Dingsheng Aluminium Industries (Hong Kong) Trading Co., Ltd. (Dingsheng HK), Hangzhou Dingsheng Import & Export Co., Ltd. or Hangzhou Dingsheng Import and Export Co., Ltd. (Dingsheng IE), Hangzhou Teemful Aluminium Co., Ltd. (Teemful), Inner Mongolia Liansheng New Energy Material Co., Ltd. or Inner Mongolia Liansheng New Energy Material Joint-Stock Co., Ltd. (Liansheng), Inner Mongolia Liansheng New Energy Material Co., Ltd. or Inner Mongolia Xinxing New Material Co., Ltd. (Xinxing), Hangzou Dingsheng Industrial Group Co., Ltd. (Dingsheng Group), Hangzhou Dingcheng Aluminum Co., Ltd. (Dingcheng); Luoyang Longding Aluminium Co., Ltd. (Longding); Walson (HK) Trading Co., Limited (Walson HK); Dingheng New Materials Co., Ltd. (Dingheng) and Thai Ding Li New Materials Co., Ltd. (Ding Li), (collectively, Dingsheng Respondents). Longding, Walson HK, Dingheng and Ding Li were listed separately in the Initiation Notice. See Dingsheng Respondents' Letter, “Hangzhou Five Star Affiliation Response,” dated August 25, 2023 (Dingsheng Respondents AQR) at Exhibit A.1.

⁹ As discussed in the Preliminary Results, Commerce finds the following companies to be to be cross-owned with Zhongji HK: Jiangsu Zhongji Lamination Materials Co., Ltd. (Zhongji) (FKA Jiangsu Zhongji Lamination Materials Co., Ltd.); Jiangsu Huafeng Aluminium Industry Co., Ltd. (Jiangsu Huafeng); Shantou Wanshun New Material Group Co., Ltd. (Shantou Wanshun) (FKA Shantou Wanshun Package Material Stock Co., Ltd.); Anhui Zhongji Battery Foil Sci&Tech Co., Ltd. (Anhui Zhongji) (FKA Anhui Maximum Aluminium Industries Company Limited); and Sichuan Wanshun Zhongji Aluminium Industry Co., Ltd. (Sichuan Wanshun). Anhui Zhongji, Anhui Maximum Aluminium Industries Company Limited, Jiangsu Huafeng, Zhongji, and Shantou Wanshun Package Material Stock Co., Ltd. were listed separately in the Initiation Notice.

¹⁰ This net countervailable ad valorem subsidy rate reflects an EVA. See Issues and Decision Memorandum at Comment 3.

¹¹ See Appendix II for a list of the non-selected companies under review.

¹² The non-selected company rate reflects Five Star's ad valorem net countervailable subsidy rate and Zhongji HK's ad valorem net countervailable subsidy rate without the EVA. See Issues and Decision Memorandum at 4 and Comment 3.

Company | Subsidy rate (percent ad valorem)
Hangzhou Five Star Aluminium Co., Ltd.⁸ | 29.90
Jiangsu Zhongji Lamination Materials Co., (HK) Limited ⁹ | ¹⁰ 22.35
Non-Selected Companies Under Review ¹¹ | ¹² 27.50

Disclosure

Commerce intends to disclose calculations and analysis performed for the final results of review within five days after the date of publication of this notice in the Federal Register in accordance with 19 CFR 351.224(b).

Cash Deposit Requirements

In accordance with section 751(a)(1) of the Act, Commerce also intends to instruct U.S. Customs and Border Protection (CBP) to collect cash deposits of estimated countervailing duties in the amounts shown above for the above-listed companies with regard to shipments of subject merchandise entered, or withdrawn from warehouse, for consumption on or after the date of publication of these final results of review. For all non-reviewed firms, we will instruct CBP to continue to collect cash deposits of estimated countervailing duties at the all-others rate or the most recent company-specific rate applicable to the company, as appropriate. These cash deposit requirements, effective upon publication of these final results, shall remain in effect until further notice.

Assessment Requirements

In accordance with section 751(a)(2)(C) of the Act and 19 CFR 351.212(b)(2), Commerce has determined, and CBP shall assess, countervailing duties on all appropriate entries covered by this review, for the above-listed companies at the applicable ad valorem assessment rates listed. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

The final results are issued and published in accordance with sections 751(a)(1) and 777(i)(1) of the Act and 19 CFR 351.221(b)(5).

Dated: November 5, 2024.
Abdelali Elouaradia,
Deputy Assistant Secretary for Enforcement and Compliance.

Appendix I

List of Topics Discussed in the Issues and Decision Memorandum

I. Summary

II. Background

III. Scope of the Order

IV. Non-Selected Companies Under Review

V. Subsidies Valuation

VI. Use of Facts Otherwise Available and Application of Adverse Inferences

VII. Analysis of Programs

VIII. Discussion of the Issues

Comment 1: Whether Commerce Should Continue to Make an Adverse Inference to Find that the Mandatory Respondents Benefited from the Export Buyer's Credit Program (EBCP)

Comment 2: Whether Commerce Should Revise its Application of the Trading Company Methodology for Jiangsu Zhongji Lamination Materials Co., (HK) Ltd. (Zhongji HK)

Comment 3: Whether Commerce Should Grant Jiangsu Zhongji Lamination Materials Co., Ltd. (Zhongji) an Entered Value Adjustment (EVA)

Comment 4: Whether Commerce Should Include Non-Production Income and Commission Expenses in Zhongji's Total Sales Denominator

Comment 5: Whether Commerce Should Adjust the Aluminum Plate and/or Sheet and Strip Benchmark for the Zhongji Respondents ¹³

¹³ The Zhongji Respondents include Zhongji HK, Zhongji, Jiangsu Huafeng Aluminium Industry Co., Ltd. (Jiangsu Huafeng), Shantou Wanshun New Material Group Co., Ltd. (Shantou Wanshun), Anhui Zhongji Battery Foil Sci&Tech Co., Ltd. (Anhui Zhongji), and Sichuan Wanshun Zhongji Aluminium Industry Co., Ltd. (Sichuan Wanshun).

Comment 6: Whether Commerce Should Include Warehouse Storage Fees in the Benchmark for the Government Provision of Primary Aluminum for Less Than Adequate Remuneration (LTAR)

Comment 7: Whether Commerce Should Adjust the Calculation of the Zhongji Respondents' Inland Freight Used in the Primary Aluminum Benchmark

Comment 8: Whether Commerce Should Include Certain Purchases Disclosed at Verification to calculate Anhui Zhongji's Benefit from the Government Provision of Primary Aluminum for LTAR

Comment 9: Whether Commerce Should Revise the Dingsheng Respondents' Intercompany Sales

Comment 10: Whether Commerce Should Adjust the Primary Aluminum, Aluminum Sheet and Coal Benchmarks for the Dingsheng Respondents

Comment 11: Whether Commerce Should Include London Metal Exchange (LME) Data in the Calculation of the Primary Aluminum Benchmarks for the Dingsheng Respondents

Comment 12: Whether Commerce Should Adjust the Ocean Freight Benchmarks for the Dingsheng Respondents

Comment 13: Whether Commerce Should Revise the Dingsheng Respondents' Benefit Calculations for Income Tax Deductions for Research and Development (R&D) Expenses Under the Enterprise Income Tax Law (EITL)

Comment 14: Whether Commerce Should Adjust Dingsheng Respondents' Benefit Calculation for the Government Provision of Electricity for LTAR

Comment 15: Whether Commerce Should Revise Inner Mongolia Liansheng New Energy Material Joint-Stock Co., Ltd.'s (Liansheng's) Benefit Calculation for Certain Government Grants

IX. Recommendation

Appendix II

Non-Selected Companies Under Review

1. Alcha International Holdings Limited

2. Baotou Alcha Aluminum Co., Ltd.

3. Gränges Aluminum (Shanghai) Co., Ltd.

4. Guangxi Baise Xinghe Aluminum Industry Co., Ltd.

5. Hunan Suntown Marketing Limited

6. Jiangyin Dolphin Pack Ltd. Co.

7. Luoyang Longding Aluminium Industries Co., Ltd.

8. Shandong Yuanrui Metal Material Co., Ltd.

9. Shanghai Huafon Aluminium Corporation

10. Shanghai Shenhuo Aluminium Foil Co., Ltd.

11. Shanghai Shenyan Packaging Materials Co., Ltd.

12. SNTO International Trade Limited

13. Suntown Technology Group Corporation Limited

14. Xiamen Xiashun Aluminium Foil Co. Ltd.

15. Yangtai Jintai International Trade Co., Ltd.

16. Yantai Donghai Aluminum Co., Ltd.

17. Yinbang Clad Material Co., Ltd.

18. Zhejiang Zhongjin Aluminum Industry Co., Ltd.

[FR Doc. 2024-26168 Filed 11-8-24; 8:45 am]

BILLING CODE 3510-DS-P